DEPARTMENT OF COMMERCE

National Oceanic and Atmospheric Administration

50 CFR Part 660

[Docket No. 04061787-4234-02; I.D. 060704H]

RIN 0648-AR85

Fisheries Off West Coast States and in the Western Pacific; Western Pacific Bottomfish and Seamount Groundfish Fishery; Fishing Moratorium

AGENCY: National Marine Fisheries Service, National Oceanic and Atmospheric Administration (NOAA), Commerce.

ACTION: Final rule.

SUMMARY: NOAA Fisheries issues this final rule to extend the current moratorium on harvesting seamount groundfish from the Hancock Seamount in the Northwestern Hawaiian Islands for 6 years, until August 31, 2010. The fishery has been closed since 1986. NMFS is promulgating this final rule in response to recommendation by the Western Pacific Fishery Management Council (Council). The closure is intended to conserve pelagic armorhead (Pseudopentaceros wheeleri, formerly, Pentaceros richardsoni), which is an overfished stock.

DATES: Effective September 20, 2004.

ADDRESSES: A regulatory impact review (RIR) was prepared for this final rule. A copy of the RIR is available from William L. Robinson, Regional Administrator, NOAA Fisheries Pacific Islands Regional Office, 1601 Kapiolani Blvd., Suite 1110, Honolulu, HI 96814.

FOR FURTHER INFORMATION CONTACT: Mr. Lewis Van Fossen, Resource Management Specialist, Sustainable Fisheries Division (808) 973-2937.

SUPPLEMENTARY INFORMATION:

Electronic Access

This Federal Register document is also accessible via the internet at the website of the Office of Federal Register: http://www.access.gpo.gov/su-docs/aces/aces140.html

Background

When the Fishery Management Plan for the Bottomfish and Seamount Groundfish Fisheries of the Western Pacific Region (FMP) was implemented (51 FR 27413, July 31, 1986), it was determined that a 6-year moratorium on fishing at Hancock Seamount was needed to aid the recovery of the pelagic armorhead (Pseudopentaceros wheeleri, formerly, Pentaceros richardsoni). Foreign vessels over exploited the seamount groundfish resource before the Fishery Conservation and Management Act, now called the Magnuson-Stevens Fishery Conservation and Management Act, was enacted in 1976. There has never been a domestic fishery targeting these stocks. Periodic reviews since the original moratorium was implemented consistently determined that the stock has not recovered. Therefore, the moratorium was extended twice already for 6-year increments in 1992 and 1998 (57 FR 36907, August 17, 1992; and 63 FR 35162, June 29, 1998; respectively). On June 25, 2004, a proposed rule (69 FR 35570) was published announcing another extension until August 31, 2010.

The last U.S. research cruise to the Hancock Seamount was conducted in 1993. However, the Japanese trawl fleet continues to harvest pelagic armorhead on neighboring seamounts outside of the U.S. exclusive economic zone (EEZ) surrounding the Northwestern Hawaiian Islands. According to information provided by the Japan National Research Institute of Far Seas Fisheries, the most current (2002) spawning potential ratio (SPR) for the armorhead stock is 0.1 percent at all seamounts outside of the EEZ. These seamounts comprise 95 percent of the trawl grounds for the Japanese trawl fishery. Based on the low SPR value, it is inferred that the status of the Hancock Seamount is similarly depressed and well under 20 percent SPR which is the standard for determining when pelagic armorhead overfished. At its October 2003 meeting the Council heard reports from its Bottomfish Plan Team and Scientific and Statistical Committee on the status of the seamount groundfish resources. On the basis of these reports, and in accordance with the framework at 50 CFR 660.67, the Council recommended a permanent closure of the Hancock Seamount to the harvest of groundfish resources. However, it is unlikely that an amendment to the FMP closing Hancock Seamount to the harvesting of groundfish resources could be completed before the current moratorium expires. Therefore, at its March 2004 meeting the Council recommended extending the current moratorium another 6 years (i.e., August 31, 2010). During the proposed moratorium, an amendment to the FMP that would permanently close Hancock Seamount to groundfish harvest could be developed.

Comments and Responses

NMFS received 2 comments on the proposed rule from 2 commenters.

Comment 1: The moratorium extension should be expanded to 20 years and include all fish - not just groundfish - and increase enforcement at Hancock Seamount.

Response: NMFS is limited to imposing a 6-year extension specifically to seamount groundfish resources. The moratorium extension implemented by this final rule is intended to be an interim measure until a more permanent management regime is developed by the Council for the Hancock Seamount groundfish fishery. In regard to closing fishing to other species besides groundfish at Hancock Seamount, NMFS' current data indicate that stocks of other potential commercially harvested fish (i.e., pelagics) can continue to be harvested in a sustainable manner. Closure of the area to the harvest of these resources is unwarranted. Finally, NMFS Enforcement is monitoring the area as funds permit. However, due to its remote location and poor potential returns on investments, U.S. fishermen are unlikely to target pelagic armorhead resources in the remote NWHI. Additionally, the U.S. Coast Guard already has plans to increase patrols in the U.S. EEZ surrounding Hawaii, because of heightened national security concerns.

Comment 2: If the Hancock Seamount is only one of the seamounts potentially harvested [for] armorhead then why not make it a sanctuary permanently off limits to bottomfishing? Keep it open to tuna/swordfish longliners and albacore trollers.

Response: As stated above, this final rule is intended to be an interim measure until a long-term management program is developed by the Council. In regard to the harvest of pelagic management unit species targeted by longliners and trollers, see the response to Comment 1.

Classification

This final rule has been determined to be not significant for the purposes of Executive Order 12866.

The Chief Counsel for Regulation of the Department of Commerce certified to the Chief Counsel for Advocacy of the Small Business Administration that the proposed rule for this action would not have a significant economic impact on a substantial number of small entities. The factual basis for the certification was published in the proposed rule. No comments were received regarding the economic impacts of this action. As a result a regulatory flexibility analysis was not prepared.

List of Subjects in 50 CFR Part 660

Administrative practice and procedure, American Samoa, Fisheries, Fishing, Guam, Hawaiian Natives, Indians, Northern Mariana Islands, Reporting and recordkeeping requirements.

Dated: August 13, 2004.
Rebecca Lent,
Deputy Assistant Administrator for Regulatory Programs, National Marine Fisheries Service.

For the reasons set out in the preamble, 50 CFR part 660 is amended as follows:

PART 660—FISHERIES OFF WEST COAST STATES AND IN THE WESTERN PACIFIC

1. The authority citation for part 660 continues to read as follows:

Authority: 16 U.S.C. 1801 et seq.

2. Section 660.68 is revised to read as follows:

§ 660.68 Fishing moratorium on Hancock Seamount.

Fishing for bottomfish and seamount groundfish on the Hancock Seamount is prohibited through August 31, 2010.

[FR Doc. 04-18956 Filed 8-18-04; 8:45 am]

BILLING CODE 3510-22-S